DEPARTMENT OF JUSTICE

[OMB Number 1117-NEW]

Agency Information Collection Activities; Proposed eCollection eComments Requested; New Collection: Leadership Engagement Survey

AGENCY: Drug Enforcement Administration, Department of Justice.

ACTION: 60-Day notice.

SUMMARY: The Department of Justice (DOJ), Drug Enforcement Administration, will be submitting the following information collection request to the Office of Management and Budget (OMB) for review and approval in accordance with the Paperwork Reduction Act of 1995.

DATES: Comments are encouraged and will be accepted for 60 days until November 29, 2016.

FOR FURTHER INFORMATION CONTACT: If you have additional comments especially on the estimated public burden or associated response time, suggestions, or need a copy of the proposed information collection instrument with instructions or additional information, please contact Donna A. Rodriguez, Ph.D., Unit Chief, Research and Analysis Staff, Drug Enforcement Administration, 8701 Morrissette Drive, Springfield, VA 22152.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: New collection.

2. The Title of the Form/Collection: Leadership Engagement Survey (LES).

3. The agency form number, if any, and the applicable component of the Department sponsoring the collection: Online survey.

4. Affected public who will be asked or required to respond, as well as a brief abstract: The affected public is Drug Enforcement Administration employees and Task Force Officers. The LES is an initiative mandated by the Acting Administrator, DEA, to assess and improve competencies and proficiency of leadership across the DEA.

5. An estimate of the total number of respondents and the amount of time estimated for an average respondent to respond: It is estimated that approximately 5,000 respondents will complete the survey within approximately 45 minutes.

6. An estimate of the total public burden (in hours) associated with the collection: The estimated public burden associated with this collection is 3,750 hours. It is estimated that respondents will take 45 minutes to complete the survey. In order to calculate the public burden for the survey, 45 minutes was multiplied by 5,000 and divided by 60 (the number of minutes in an hour) which equals 3,750 total annual burden hours.

If additional information is required contact: Jerri Murray, Department Clearance Officer, United States Department of Justice, Justice Management Division, Policy and Planning Staff, Two Constitution Square, 145 N Street NE., 3E.405B, Washington, DC 20530.

Dated: September 27, 2016.
Jerri Murray,
Department Clearance Officer for PRA, U.S. Department of Justice.

[FR Doc. 2016-23704 Filed 9-29-16; 8:45 am]

BILLING CODE 4410-09-P